ENVIRONMENTAL PROTECTION AGENCY

[Docket# EPA-RO4-SFUND-2009-0633, FRL-9092-3]

Granville High School Mercury Superfund Site, Creedmoor, Granville County, NC Notice of Settlement

AGENCY: Environmental Protection Agency.

ACTION: Notice of settlement.

SUMMARY: Under Section 122(h)(1) of the Comprehensive Environmental Response, Compensation and Liability Act (CERCLA), the United States Environmental Protection Agency has entered into a settlement for reimbursement of past response costs concerning the Granville High School Mercury Superfund Site located in Creedmoor, Granville County, North Carolina for publication.

DATES: The Agency will consider public comments on the settlement until January 13, 2010. The Agency will consider all comments received and may modify or withdraw its consent to the settlement if comments received disclose facts or considerations which indicate that the settlement is inappropriate, improper, or inadequate.

ADDRESSES: Copies of the settlement are available from Ms. Paula V. Painter. Submit your comments, identified by Docket ID No. EPA-RO4-SFUND-2009-0633 or Site name Granville High School Mercury Superfund Site by one of the following methods:

• http://www.regulations.gov: Follow the on-line instructions for submitting comments.

• http://www.epa.gov/region4/waste/sf/enforce.htm

• E-mail: Painter.Paula@epa.gov

FOR FURTHER INFORMATION CONTACT: Paula V. Painter at 404-562-8887.

Dated: August 12, 2009.
Anita L. Davis,
Chief, Superfund Enforcement and Information Management Branch, Superfund Division.

[FR Doc. E9-29689 Filed 12-11-09; 8:45 am]

BILLING CODE 6560-50-P